FARM CREDIT SYSTEM INSURANCE CORPORATION

Notice of Board Meeting

SUMMARY: Notice of the forthcoming regular meeting of the Board of Directors of the Farm Credit System Insurance Corporation (FCSIC), is hereby given in accordance with the provisions of Article VI of the Bylaws of the FCSIC.

Time and Date: 10:00 a.m., Thursday, January 27, 2022.

Place: Because of the COVID-19 pandemic, the public may only virtually attend the open portions of this meeting. If you would like to virtually attend, at least 24 hours in advance, visit FCSIC.gov, select “News & Events,” and then select “Board Meetings.” From there, access the linked “Instructions for board meeting visitors.”

Status: Parts of this meeting will be open to the public. The rest of the meeting will be closed to the public.

Matters To be Considered:

Portions Open to the Public

• Approval of December 8, 2021 Minutes

• Review and Setting of Insurance Premium Rates

• Policy Statement—Insurance Premiums

• Policy Statement—Internal Controls, Audit Coverage & Committee Charter

Portions Closed to the Public

• Annual Report on Contracts

• Annual Report on Whistleblower Activity

For More Information Contact: If you need more information, need assistance for accessibility reasons, or have questions, contact Ashley Waldron, Secretary to the Board. Telephone: 703-883-4009. TTY: 703-883-4056.

Dated: January 12, 2022.
Ashley Waldron,
Secretary to the Board.

[FR Doc. 2022-00902 Filed 1-18-22; 8:45 am]

BILLING CODE 6705-01-P